DEPARTMENT OF THE INTERIOR

National Park Service

[NPS-WASO-NAGPRA-NPS0037050; PPWOCRADN0-PCU00RP14.R50000]

Notice of Intent To Repatriate Cultural Items Amendment: Arizona State Museum, University of Arizona, Tucson, AZ

AGENCY: National Park Service, Interior.

ACTION: Notice; amendment.

SUMMARY: In accordance with the Native American Graves Protection and Repatriation Act (NAGPRA), the Arizona State Museum, University of Arizona, has amended a Notice of Intent to Repatriate published in the Federal Register on October 17, 2018. This notice amends the number of cultural items in a collection removed from Pinal County, AZ.

DATES: Repatriation of the cultural items in this notice may occur on or after January 12, 2024.

ADDRESSES: Cristin Lucas, Repatriation Coordinator, P.O. Box 210026, Arizona State Museum, University of Arizona, Tucson, AZ 85721, telephone (520) 626-0320, email lucasc@arizona.edu.

SUPPLEMENTARY INFORMATION: This notice is published as part of the National Park Service's administrative responsibilities under NAGPRA. The determinations in this notice are the sole responsibility of the Arizona State Museum, University of Arizona. The National Park Service is not responsible for the determinations in this notice. Additional information on the amendments and determinations in this notice, including the results of consultation, can be found in the summary or related records held by the Arizona State Museum, University of Arizona.

Amendment

This notice amends the determinations published in a Notice of Intent to Repatriate in the Federal Register (83 FR 52532-52535, October 17, 2018). Repatriation of the items in the original Notice of Intent to Repatriate has not occurred. This notice amends the number of unassociated funerary objects as listed in the original notice. An additional three unassociated funerary objects removed from AZ AA:3:17(ASM) in Pinal County, AZ, were identified.

From AZ AA:3:17(ASM) in Pinal County, AZ, the 10 unassociated funerary objects (previously identified as seven unassociated funerary objects) are one ceramic bowl, one ceramic jar, one mano, one polishing stone, one stone cylinder, two stone knives, one shell fragment, and two shell bracelets.

Determinations (as Amended)

Pursuant to NAGPRA and its implementing regulations, and after consultation with the appropriate Indian Tribes and Native Hawaiian organizations, the Arizona State Museum, University of Arizona, has determined that:

• The 326 cultural items described above are reasonably believed to have been placed with or near individual human remains at the time of death or later as part of the death rite or ceremony and are believed, by a preponderance of the evidence, to have been removed from a specific burial site of a Native American individual.

• There is a relationship of shared group identity that can be reasonably traced between the human remains and associated funerary objects described in this notice and the Ak-Chin Indian Community; Gila River Indian Community of the Gila River Indian Reservation, Arizona; Hopi Tribe of Arizona; Salt River Pima-Maricopa Indian Community of the Salt River Reservation, Arizona; Tohono O'odham Nation of Arizona; and the Zuni Tribe of the Zuni Reservation, New Mexico.

Requests for Repatriation

Additional, written requests for repatriation of the cultural items in this notice must be sent to the Responsible Official identified in ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after January 12, 2024. If competing requests for repatriation are received, the Arizona State Museum, University of Arizona, must determine the most appropriate requestor prior to repatriation. Requests for joint repatriation of the cultural items are considered a single request and not competing requests. The Arizona State Museum, University of Arizona, is responsible for sending a copy of this notice to the Indian Tribes identified in this notice.

Authority: Native American Graves Protection and Repatriation Act, 25 U.S.C. 3003, and the implementing regulations, 43 CFR 10.8, 10.10, 10.13, and 10.14.

Dated: December 6, 2023.
Melanie O'Brien,
Manager, National NAGPRA Program.

[FR Doc. 2023-27364 Filed 12-12-23; 8:45 am]

BILLING CODE 4312-52-P